FEDERAL MARITIME COMMISSION

46 CFR Part 542

[Docket No. FMC-2023-0010]

RIN 3072-AC92

Definition of Unreasonable Refusal To Deal or Negotiate With Respect to Vessel Space Accommodations Provided by an Ocean Common Carrier

AGENCY: Federal Maritime Commission.

ACTION: Final rule; announcement of effective date; correction.

SUMMARY: The Federal Maritime Commission (FMC or Commission) received approval from the Office of Management and Budget (OMB) for an information collection request associated with the final rule, “Definition of Unreasonable Refusal to Deal or Negotiate with Respect to Vessel Space Accommodations Provided by an Ocean Common Carrier.” This rule announces the effective date for the requirements for ocean common carriers to annually file a documented export policy with the Commission and provides implementing instructions. In the final rule published July 23, 2024, the Commission stated it would publish a document in the Federal Register (FR) announcing the effective date of the collection-of-information-related sections upon OMB approval. This rule establishes the effective date of the relevant provisions. It also corrects an error in the regulatory text.

DATES: The amendments adding 46 CFR 542.1(j) (instruction 2) and 46 CFR 542.99 (instruction 3), published on July 23, 2024 (89 FR 59648), are effective on February 3, 2025. The correction to 46 CFR 542.99 is effective February 3, 2025.

Parties required to file a documented export policy must file their initial documented export policy with the Commission on or before March 1, 2025. Subsequent annual documented export policies must subsequently be filed on or before March 1 for each calendar year.

ADDRESSES: Background documents associated with this collection are available on www.reginfo.gov (search OMB Control No. 3072-0076) and www.regulations.gov (search Docket No. FMC-2023-0010).

FOR FURTHER INFORMATION CONTACT: David Eng, Secretary; Phone: (202) 523-5725; Email: secretary@fmc.gov.

SUPPLEMENTARY INFORMATION: On July 23, 2024, in accordance with the Ocean Shipping Reform Act of 2022, the Federal Maritime Commission published the final rule, “Definition of Unreasonable Refusal to Deal or Negotiate with Respect to Vessel Space Accommodations Provided by an Ocean Common Carrier.” The final rule contained two provisions, 46 CFR 542.1(j), and 46 CFR 542.99, that were delayed indefinitely, pending information collection approval from OMB under the Paperwork Reduction Act of 1995, 44 U.S.C. 3501-3520. On September 27, 2024, OMB, Office of Information and Regulatory Affairs, approved the information collection requirements (https://www.reginfo.gov/public/do/PRAViewICR?ref_nbr=202407-3072-001). The assigned OMB Control Number is 3072-0076. Accordingly, FMC announces that 46 CFR 542.1(j) and 46 CFR 542.99 are effective February 3, 2025. FMC is also making a minor correction to 46 CFR 542.99.

Filing Instructions

Unless superseded by subsequent Commission order or filing instructions issued by the Commission:

1. Parties required under 46 CFR 542.4(j) to file a documented export policy must file their initial documented export policy with the Commission on or before March 1, 2025. Subsequent annual documented export policies must be filed with the Commission on or before March 1 of each calendar year. A documented export policy should cover the time period until the next policy is due for submission; carriers may file updated versions more frequently as needed.

2. Documents must be submitted in English, and any monetary terms shall be expressed in terms of U.S. currency.

3. If any topics listed under 541.2(j)(1)(i), 541.2(j)(1)(ii), and/or 541.2(j)(1)(iii) are not addressed in a documented export policy because they are not applicable, the documented export policy should attest to this inapplicability clearly and unambiguously and provide an explanation for non-applicability.

4. Submissions shall be signed by a duly authorized officer of the regulated party with a copy of evidence of the officer's authority.

List of Subjects in 46 CFR Part 542

Administrative practice and procedure, Non-vessel-operating common carriers, Ocean common carrier, Refusal to deal or negotiate, Vessel-operating common carriers, Vessel space accommodations.

For the reasons set forth in the preamble, FMC corrects 46 CFR part 542 by making the following correcting amendment:

1. The authority citation for part 542 continues to read as follows:

Authority: 5 U.S.C. 553; and 46 U.S.C. 40104, 46105, 40307, 40501-40503, 40901-40904, 41101-41106.

2. Revise § 542.99 to read as follows:

§ 542.99 OMB control number assigned pursuant to the Paperwork Reduction Act.

The Commission has received Office of Management and Budget approval for the collection of information in § 542.1(j) of this part pursuant to the Paperwork Reduction Act of 1995, as amended. The valid control number for this collection is 3072-0076.

By the Commission.
David Eng,
Secretary.

[FR Doc. 2024-31017 Filed 12-31-24; 8:45 am]

BILLING CODE 6730-02-P